DEPARTMENT OF ENERGY

Federal Energy Regulatory Commission

[Docket No. CP04-76-000]

Equitrans, L.P.; Notice of Application

March 8, 2004.

Take notice that on March 1, 2004, Equitrans, L.P. (Equitrans), 100 Allegany Center, Pittsburgh, PA 15275, filed in Docket No. CP04-76-000 an application pursuant to section 7 of the Natural Gas Act (NGA) for all of the necessary authorizations required to refunctionalize certain of its facilities from transmission/storage to gathering, all as more fully set forth in the application which is on file with the Commission and open to public inspection.

The facilities that Equitrans is seeking to refunctionalize include: (1) Approximately 275 miles of low-pressure, predominantly small diameter pipeline; (2) 14 compressor engines, located at 8 compressor stations, having a total of 14,395 horsepower; and (3) various meters and appurtenant facilities, all of which are primarily used to gather gas from numerous gas wells in Pennsylvania and West Virginia and transport such gas to Equitrans' downstream transportation facilities. The facilities are located in Armstrong and Greene Counties, Pennsylvania; and Armstrong, Braxton, Doddridge, Lewis, Marion and Wetzel Counties, West Virginia. Equitrans states that concurrently with the submission of this application, it is also submitting an application under section 4 of the NGA seeking approvals for the rate treatment associated with the refunctionalized facilities.

Equitrans further requests that the Commission grant any waivers of its regulations that the Commission may deem necessary to grant the authorizations requested in its application.

Any questions concerning this application may be directed to David K. Dewey, General Counsel, Equitrans, L.P., 100 Allegheny Center, Pittsburgh, PA 15275, at (412) 395-2566 and Mark Cook, BakerBotts, L.P., Pennsylvania Avenue, NW., Washington, DC 20004, at 202 639-7779.

Any person desiring to be heard or to protest said filing should file a motion to intervene or a protest with the Federal Energy Regulatory Commission, 888 First Street, NE., Washington, DC 20426, in accordance with § 385.214 or § 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 22, 2004.

Magalie R. Salas,
Secretary.

[FR Doc. E4-566 Filed 3-15-04; 8:45 am]

BILLING CODE 6717-01-P